DEPARTMENT OF THE INTERIOR

National Park Service

[NPS-WASO-NAGPRA-22526; PPWOCRADN0-PCU00RP14.R50000]

Notice of Intent to Repatriate Cultural Items: Allen County-Fort Wayne Historical Society, Fort Wayne, IN

AGENCY: National Park Service, Interior.

ACTION: Notice.

SUMMARY: The Allen County-Fort Wayne Historical Society, in consultation with the appropriate Indian tribes or Native Hawaiian organizations, has determined that the cultural items listed in this notice meet the definition of unassociated funerary objects. Lineal descendants or representatives of any Indian tribe or Native Hawaiian organization not identified in this notice that wish to claim these cultural items should submit a written request to the Allen County-Fort Wayne Historical Society. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Allen County-Fort Wayne Historical Society at the address in this notice by January 17, 2017.

ADDRESSES: Walter Font, Curator, Allen County-Fort Wayne Historical Society, 302 East Berry Street, Fort Wayne, IN 46802, telephone 260-426-2882, email wfont@comcast.net.

SUPPLEMENTARY INFORMATION: Notice is here given in accordance with the Native American Graves Protection and Repatriation Act (NAGPRA), 25 U.S.C. 3005, of the intent to repatriate cultural items under the control of the Allen County-Fort Wayne Historical Society that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1912, 76 cultural items were removed from the Miami Chief Little Turtle (Mishikinakaw, 1747-1812) grave in Fort Wayne, Allen County, IN. The objects were excavated at 634 Lawton Place in Fort Wayne, IN, during the construction of a house for George W. Gillie in 1912. Jacob M. Stouder, a local collector, acquired many, but not all, of the objects discovered during the excavations. Most of the objects were acquired by the Allen County-Fort Wayne Historical Society in the 1930s from the J.M. Stouder family, from Mrs. George Gillie (7 items), and E.L. Dotson (3 items). Three objects were donated by George Carey in 1962. The objects were acquired by purchase, donation and loans with each source saying the objects were from the Lawton Place site. The 76 unassociated funerary objects, are 8 Armband/armband fragments; 1 axe head; 3 beads; 2 beads, string of; 1 razor blade; 2 bracelets; 9 brooch/brooch fragments; 1 buckle/leather remnants; 1 bullet mold; 3 buttons; 1 earring; 1 flintlock; 1 flint & steel; 3 gorgets; 1 gun stock fragment; 2 kettles, copper; 1 kettle, iron; 6 knife/knife blades; 3 iron nails; 2 musket barrels; 1 pewter cup; 1 pewter flask; 1 pigment jar; 1 pipe; 2 pocketknife fragments; 2 ramrod guides; 1 scissors; 7 silver crosses; 1 silver necklace; 2 spoons; 2 spurs; 1 sword; 1 tomahawk; and 1 trigger guard.

Jacob M. Stouder's research led him to believe that the site of Little Turtle's grave had been found. A contemporary historian, Calvin M. Young, supported Stouder's observations. The objects were appropriate to Little Turtle's stature as a great chief and they reasoned that the sword and peace medal found in the grave gave weight to their conclusion. Except for a few items (ceramic, stone, or miscellaneous remnants), the funeral-related artifacts are trade items of French, British or American manufacture. Most were made in the late-eighteenth and early-nineteenth centuries. Stouder's research included interviews with old-time residents in the area and published sources available to him at the time. A review of his research and research using additional sources (fourteen altogether) has not negated Stouder's findings, that the objects he collected were from grave of Little Turtle. On June 12, 1960, the Historical Society dedicated a small park along with a memorial plaque at the Lawton Place burial site. An inventory and detailed historical assessment was submitted for review and consultation to representatives of Little Turtle's lineal descendants, the Miami Tribe of Oklahoma, Miami, Oklahoma and the Pokagon Band of Potawatomi Indians, Dowagiac, Michigan. Allen County-Fort Wayne Historical Society staff and the consultants agreed that the objects found at Lawton Place in 1912 were from Little Turtle's burial.

Determinations Made by the Allen County-Fort Wayne Historical Society

Officials of the Allen County-Fort Wayne Historical Society have determined that:

• Pursuant to 25 U.S.C. 3001(3)(B), the 76 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and lineal descendants of Chief Little Turtle. They include families represented by Daryl Baldwin, Oxford, OH, and John Froman, Miami, OK, whose confirmed genealogies are on file at the Allen County-Fort Wayne Historical Society.

Additional Requestors and Disposition

Lineal descendants or representatives of any Indian tribe or Native Hawaiian organization not identified in this notice that wish to claim these cultural items should submit a written request with information in support of the claim to Walter Font, Curator, Allen County-Fort Wayne Historical Society, 302 East Berry Street, Fort Wayne, IN 46802, telephone 260-426-2882, email wfont@comcast.net, by January 17, 2017. After that date, if no additional claimants have come forward, transfer of control of the unassociated funerary objects to the lineal descendants of Little Turtle represented by Daryl Baldwin and John Froman may proceed.

The Allen County-Fort Wayne Historical Society is responsible for notifying the lineal descendants, the Miami Tribe of Oklahoma and the Pokagon Band of Potawatomi Indians that this notice has been published.

Dated: December 6, 2016.
Melanie O'Brien,
Manager, National NAGPRA Program.

[FR Doc. 2016-30338 Filed 12-15-16; 8:45 am]

BILLING CODE 4312-52-P